ENVIRONMENTAL PROTECTION AGENCY

40 CFR Part 52

[R05-OAR-2008-0031; FRL-8919-7]

Approval and Promulgation of Air Quality Implementation Plans; Indiana; Withdrawal of Direct Final Rule

AGENCY: Environmental Protection Agency (EPA).

ACTION: Withdrawal of direct final rule.

SUMMARY: Due to the receipt of an adverse comment, the EPA is withdrawing the May 5, 2009 (74 FR 20599), direct final rule approving a rule revision to extend Federally Enforceable State Operating Permit renewal terms from five years to ten years. The State of Indiana submitted this revision as a modification to the State Implementation Plan on December 19, 2007. In the direct final rule, EPA stated that if adverse comments were submitted by June 4, 2009, the rule would be withdrawn and not take effect. On May 19, 2009, EPA received a comment. EPA believes this comment is adverse and, therefore, EPA is withdrawing the direct final rule. EPA will address the comment in a subsequent final action based upon the proposed action also published on May 5, 2009 (74 FR 20665). EPA will not institute a second comment period on this action.

DATES: The direct final rule published at 74 FR 20599 on May 5, 2009, is withdrawn as of June 17, 2009.

FOR FURTHER INFORMATION CONTACT: Sam Portanova, Environmental Engineer, Air Permits Section, Air Programs Branch (AR-18J), USEPA, Region 5, 77 West Jackson Boulevard, Chicago, Illinois 60604, (312) 886-3189, portanova.sam@epa.gov.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: June 4, 2009.
Walter W. Kovalick Jr.,
Acting Regional Administrator, Region 5.

PART 52—[AMENDED]

Accordingly, the amendment to 40 CFR 52.770 published in the Federal Register on May 5, 2009 (74 FR 20599) on page 20601 is withdrawn as of June 17, 2009.

[FR Doc. E9-14240 Filed 6-16-09; 8:45 am]

BILLING CODE 6560-50-P